FEDERAL COMMUNICATIONS COMMISSION

47 CFR Part 73

[DA No. 00-372; MM Docket No. 99-335; RM-9771]

Radio Broadcasting Services; Lindale, TX

AGENCY: Federal Communications Commission.

ACTION: Proposed rulemaking; withdrawal.

SUMMARY: This document dismisses a petition for rule making filed by Café Broadcasting, Inc. requesting the allotment of Channel 239A at Lindale, Texas. See 64 FR 68664, December 8, 1999. Café Broadcasting withdrew its interest in the allotment of Channel 239A at Lindale, Texas. With this action, this proceeding is terminated.

FOR FURTHER INFORMATION CONTACT: Kathleen Scheuerle, Mass Media Bureau, (202) 418-2180.

SUPPLEMENTARY INFORMATION: This is a summary of the Commission's Report and Order, MM Docket No. 99-335, adopted February 16, 2000, and released February 25, 2000. The full text of this Commission decision is available for inspection and copying during normal business hours in the Commission's Reference Center, 445 Twelfth Street, SW, Washington, DC. The complete text of this decision may also be purchased from the Commission's copy contractors, International Transcription Services, Inc., 1231 20th Street, NW., Washington, DC. 20036, (202) 857-3800, facsimile (202) 857-3805.

List of Subjects in 47 Part 73

Radio broadcasting.

Federal Communications Commission.
John A. Karousos,
Chief, Allocations Branch, Policy and Rules Division, Mass Media Bureau.

[FR Doc. 00-5145 Filed 3-2-00; 8:45 am]

BILLING CODE 6712-01-P